ENVIRONMENTAL PROTECTION AGENCY

[EPA-HQ-OPP-2013-0490; FRL-9902-61]

FIFRA Scientific Advisory Panel; Notice of Rescheduled Public Meeting

AGENCY: Environmental Protection Agency (EPA).

ACTION: Notice.

SUMMARY: The Agency is issuing this notice to reschedule the 3-day meeting of the Federal Insecticide, Fungicide, and Rodenticide Act Scientific Advisory Panel (FIFRA SAP) to consider and review, Scientific Uncertainties Associated with Corn Rootworm Resistance Monitoring for Bt Corn Plant Incorporated Protectants (PIPs). The meeting was announced in the Federal Register on August 9, 2013. The Agency issued a notice of cancellation in the Federal Register on October 28, 2013. The new meeting dates are December 4-6, 2013.

DATES: The meeting will be held on December 4-6, 2013, from 9:00 a.m. to approximately 5:00 p.m.

Comments. The Agency encourages that written comments and requests for oral comments are submitted by November 26, 2013. However, written comments and requests to make oral comments may be submitted until the date of the meeting, but anyone submitting written comments after November 26, 2013 should contact the Designated Federal Official (DFO) listed under FOR FURTHER INFORMATION CONTACT. For additional instructions, see the SUPPLEMENTARY INFORMATION.

ADDRESSES: The meeting will be held at the Environmental Protection Agency, Conference Center, Lobby Level, One Potomac Yard (South Bldg.), 2777 S. Crystal Dr., Arlington, VA 22202.

FOR FURTHER INFORMATION CONTACT: Fred Jenkins, DFO, Office of Science Coordination and Policy (7201M), Environmental Protection Agency, 1200 Pennsylvania Ave. NW., Washington, DC 20460-0001; telephone number: (202) 564-3327; fax number: (202) 564-8382; email address: Jenkins.fred@epa.gov.

SUPPLEMENTARY INFORMATION: A cancellation notice was published in the Federal Register on October 28, 2013 (78 FR 64211) (FRL-9902-06). All other information provided in the Federal Register on August 9, 2013 (78 FR 48672) (FRL-9394-3) remains unchanged.

List of Subjects

Environmental protection, Pesticides and pests.

Dated: November 6, 2013.
Steven M. Knott,
Deputy Director, Office of Science Coordination and Policy.

[FR Doc. 2013-27263 Filed 11-13-13; 8:45 am]

BILLING CODE 6560-50-P